DEPARTMENT OF COMMERCE

National Oceanic and Atmospheric Administration

Proposed Information Collection; Comment Request; Coast Pilot Report

AGENCY: National Oceanic and Atmospheric Administration (NOAA), Department of Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before August 14, 2007.

ADDRESSES: Direct all written comments to Diana Hynek, Departmental Paperwork Clearance Officer, Department of Commerce, Room 6625, 14th and Constitution Avenue, NW., Washington, DC 20230 (or via the internet at dHynek@doc.gov).

FOR FURTHER INFORMATION CONTACT: Requests for additional information or copies of the information collection instrument and instructions should be directed to: Thomas W. Jackson at 301-713-2750, ext. 167, or at Thomas.Jackson@noaa.gov. mailto:patsy.bearden@noaa.gov.

SUPPLEMENTARY INFORMATION:

I. Abstract

NOAA publishes the U.S. Coast Pilot, a series of nine books which supplement the suite of nautical charts published by NOAA. The U.S. Coast Pilot contains information essential to navigators plying U.S. coastal and intra-coastal waters which cannot be readily displayed upon the charts. The Coast Pilot Report is offered to the public as a means of facilitating suggested changes to the text made by the public.

II. Method of Collection

A paper form is used.

III. Data

OMB Number: 0648-0007.

Form Number: NOAA Form 77-6.

Type of Review: Regular submission.

Affected Public: Individuals or households.

Estimated Number of Respondents: 100.

Estimated Time per Response: 30 minutes.

Estimated Annual Burden Hours: 50.

Estimated Total Annual Cost to Public: $0.

IV. Request for Comments

Comments are invited on: (a) Whether the proposed collection of information is necessary for the proper performance of the functions of the agency, including whether the information shall have practical utility; (b) the accuracy of the agency's estimate of burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: June 12, 2007.
Gwellnar Banks,
Management Analyst, Office of the Chief Information Officer.

[FR Doc. E7-11604 Filed 6-14-07; 8:45 am]

BILLING CODE 3510-JE-P